COMMISSION ON CIVIL RIGHTS

Notice of Public Meeting of the Virginia Advisory Committee; Correction

AGENCY: Commission on Civil Rights.

ACTION: Notice; revision to meeting access code.

SUMMARY: The Commission on Civil Rights published a notice in the Federal Register on Friday, March 4, 2022, concerning a briefing of the Virginia Advisory Committee. The document contained the incorrect meeting access code.

FOR FURTHER INFORMATION CONTACT: Sarah Villanueva, 202-499-0263, svillanueva@usccr.gov.

Correction

In the Federal Register on Monday, Friday, March 4, 2022, in FR Document Number 2022-04628, second column on page 12425, correct the meeting access code to: 2760 681 1173.

Dated: March 9, 2022.
David Mussatt,
Supervisory Chief, Regional Programs Unit.

[FR Doc. 2022-05386 Filed 3-15-22; 8:45 am]

BILLING CODE P